DEPARTMENT OF TRANSPORTATION

Federal Railroad Administration

Application for Approval of Discontinuance or Modification of a Railroad Signal System or Relief From Requirements

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

[Docket No. FRA-2001-8622]

Applicant: Wheeling & Lake Erie Railway Company, Mr. Dan Reinsel, Signal & Communications Supervisor, 100 East First Street, Brewster, Ohio 44613.

The Wheeling & Lake Erie Railway Company seeks approval of the proposed discontinuance and removal of the traffic control system on the single main track and sidings between Spencer, Ohio, milepost 92.0 and Bellevue, Ohio, milepost 54.5, on the Hartland Subdivision, a distance of approximately 37.5 miles, and operate by Track Warrant Control. The proposed changes include retention of the approach signals and interlocking circuits, for the CSX rail crossing at grade, near Wellington, Ohio; conversion of three existing sidings, that have power-operated switches, to radio control; and installation of DC coded track circuits, between mileposts 63.8 and 68.7 at Norwalk, Ohio, as a broken rail detection system.

The reason given for the proposed changes is to retire facilities no longer required for present operations and provide uniformity of our operating system throughout the property. Also, due to the age of the system, inclement weather results in a failure of the code line and prevents proper communication with the control points.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, S.W., Washington, D.C. 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, D.C. on January 24, 2001.
Grady C. Cothen, Jr.,
Deputy Associate Administrator for Safety Standards and Program Development.

[FR Doc. 01-2703 Filed 1-31-01; 8:45 am]

BILLING CODE 4910-06-P